ENVIRONMENTAL PROTECTION AGENCY

40 CFR Part 81

[CA-029-EXTb; FRL-6872-9]

Clean Air Act Promulgation of Extension of Attainment Date for the San Diego, California Serious Ozone Nonattainment Area

AGENCY: Environmental Protection Agency (EPA).

ACTION: Proposed rule.

SUMMARY: EPA is proposing to extend the attainment date for the San Diego serious ozone nonattainment area from November 15, 1999 to November 15, 2000. This extension is based in part on monitored air quality readings for the 1-hour national ambient air quality standard (NAAQS) for ozone during 1999. In the final rules section of this Federal Register, we are approving the State's request as a “direct final” rule without prior proposal because we view this action as noncontroversial and anticipate no adverse comments. A detailed rationale for the approval is set forth in the direct final rule.

If no adverse comments are received in response to that direct final rule, no further activity is contemplated in relation to this proposed rule. If we receive substantive adverse comments which have not already been responded to, the direct final rule will be withdrawn and all public comments received will be addressed in a subsequent final rule based on the proposed rule. We will not institute a second comment period on this action. Any parties interested in commenting on this action should do so at this time.

DATES: Comments must be received on or before November 13, 2000.

ADDRESSES: Please address your comments to the EPA contact below. You may inspect and copy the rulemaking docket for this notice at the following location during normal business hours. We may charge you a reasonable fee for copying parts of the docket.

Environmental Protection Agency, Region 9, Air Division, Air Planning, Office (AIR-2), 75 Hawthorne Street, San Francisco, CA 94105-3901

Copies of the SIP materials are also available for inspection at the addresses listed below:

California Air Resources Board, 2020 L Street, Sacramento, CA 92123-1095

San Diego County Air Pollution Control District, 9150 Chesapeake Drive, San Diego, CA 92123-1096

FOR FURTHER INFORMATION CONTACT: Dave Jesson, Air Planning Office (AIR-2), Air Division, U.S. EPA, Region 9, 75 Hawthorne Street, San Francisco, CA 94105-3901. Telephone: (415) 744-1288. E-mail: jesson.david@epa.gov.

SUPPLEMENTARY INFORMATION: For additional information see the direct final rule published in the rules section of this Federal Register.

Dated: September 12, 2000.
Keith A. Takata,
Acting Regional Administrator, Region IX.

[FR Doc. 00-25927 Filed 10-10-00; 8:45 am]

BILLING CODE 6560-50-P